DEPARTMENT OF THE INTERIOR

Bureau of Land Management

[(CA-320-1430-EU); (CACA-44232)]

Notice of Realty Action; Noncompetitive Sale of Public Lands in Modoc County, CA

AGENCY: Bureau of Land Management, Interior.

ACTION: Notice.

SUMMARY: The following public land in Modoc County, California has been found suitable for direct sale under Section 203 of the Federal Land Policy and Management Act (FLPMA) of 1976, as amended (90 Stat. 2750, 43 U.S.C. 1713), at not less than the appraised fair market value of $5,000. The land will not be offered for sale until at least 60 days after the publication date of this notice.

Mount Diablo Meridian, California

T. 39 N., R. 13 E.

Section 12; Lot 2.

Containing 5.01 acres.

The land described is hereby segregated from appropriation under the public land laws, including the mining laws, pending disposition of this action or 270 days from the publication of this notice, whichever occurs first. This land is being offered by direct sale to Norm Vogt and Elsie M. Vogt, to resolve a long-standing unintentional residential occupancy. The Bureau of Land Management (BLM) has completed a mineral report for this land, and has determined that the subject parcel contains no known mineral values; therefore, mineral interests may be conveyed simultaneously. Acceptance of the direct sale offer will qualify the purchaser to make application for conveyance of those mineral interests.

The patent, when issued, will contain a reservation to the United States of a right-of-way thereon for ditches or canals constructed by the authority of the United States under the Act of August 30, 1890 (43 U.S.C. 945); and will be subject to those rights for purposes of a Revised Statutes 2477 road granted to the County of Modoc, for the Jess Valley Road. An additional right-of-way, CACA-19788, was granted to Norm and Elsie Vogt to temporarily authorize the existing residential improvements until the problem could be resolved by this sale action. That right-of-way will be relinquished simultaneously with completion of this sale. No Federal grazing permits will be affected in any way by this sale. Detailed information concerning this action is available for review at the office of the Bureau of Land Management, Alturas Field Office, 708 West 12th Street, Alturas, California 96101.

For a period of 45 days from the date of publication of this notice in the Federal Register, interested persons may submit comments regarding the sale to the Field Manager, Alturas Field Office, at the above address. In the absence of any adverse comments, this proposal shall become the final determination of the Department of the Interior.

Timothy J. Burke,
Field Manager.

[FR Doc. 02-24461 Filed 9-25-02; 8:45 am]

BILLING CODE 4310-40-P